FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 20, 2015.

A. Federal Reserve Bank of Kansas City (Dennis Denney, Assistant Vice President) 1 Memorial Drive, Kansas City, Missouri 64198-0001:

1. Lee R. Stuart, individually, and Lee R. Stuart, James Stuart III, Susan Sehnert Stuart, Carolyn Jean Stuart, Megan Marie Stuart, all of Lincoln, Nebraska; Susan Stuart Seiler, Edina, Minnesota; Robert David Stuart, Portland, Oregon; and Wells Fargo Bank, N.A., San Francisco, California, as Trustee of the following trusts: the James Stuart Jr. Non-GST Exempt Trust FBO Rob Stuart T/U/W, dated July 28, 2010, Omaha, Nebraska; the James Stuart Jr. Non-GST Exempt Trust FBO Carolyn Stuart T/U/W, dated July 28, 2010, Omaha, Nebraska; the James Stuart Jr. Non-GST Exempt Trust FBO Megan Stuart T/U/W, dated July 28, 2010, Omaha, Nebraska; and the Susan S. Stuart Q-Tip Trust Non-GST Exempt T/U/W, dated July 28, 2010, Omaha, Nebraska; all as members of a family control group, to acquire voting shares of NBC Bancshares, LLC, Lincoln, Nebraska, parent of Nebraska Bank of Commerce, Lincoln, Nebraska, and Mountain View Bank of Commerce, Westminster, Colorado.

Board of Governors of the Federal Reserve System, February 26, 2015.
Michael J. Lewandowski,
Associate Secretary of the Board.

[FR Doc. 2015-04434 Filed 3-3-15; 8:45 am]

BILLING CODE 6210-01-P